DEPARTMENT OF DEFENSE

Department of the Army; Corps of Engineers

Inland Waterways Users Board

AGENCY: Department of the Army, U.S. Army Corps of Engineers, DoD.

ACTION: Notice of open meeting.

SUMMARY: In Accordance with 10(a)(2) of the Federal Advisory Committee Act (Pub. L. 92-463) announcement is made of the next meeting of the Inland Waterways Users Board (Board). The meting will be held on July 19, 2002, in Lisle, IL, at the Hilton Lisle/Naperville Hotel, 3003 Corporate West Drive (1-630-505-0900). The Board will hear briefings on navigation projects administered by the U.S. Army Corps of Engineers, Rock Island District. Registration will begin at 7:30 a.m. and the meeting scheduled to adjourn at 1 p.m.

FOR FURTHER INFORMATION CONTACT: Mr. Norman T. Edwards, Headquarters, U.S. Army Corps of Engineers, CECW-PD, 441 G Street, NW., Washington, DC 20314-1000; Ph: 202-761-4559.

SUPPLEMENTARY INFORMATION: The meeting is open to the public. Any interested person may attend, appear before, or file statements with the committee at the time and in the manner permitted by the committee.

Luz Ortiz,
Army Federal Register Liaison Officer.

[FR Doc. 02-15717 Filed 6-20-02; 8:45 am]

BILLING CODE 3710-92-M